DEPARTMENT OF ENERGY

Federal Energy Regulatory Commission

[ Docket No. CP09-6-001; PF12-7-000; Docket No. CP09-7-001]

LNG Development Company (d/b/a Oregon LNG); Oregon Pipeline Company, LLC; Notice of Application

Take notice that on June 7, 2013, LNG Development Company, LLC (d/b/a Oregon LNG) (Oregon LNG), 8100 NE Parkway Drive, Suite 165, Vancouver, WA 98662, filed in Docket No. CP9-6-001 an application to amend its application filed on October 10, 2008 in Docket No. CP09-6-000 pursuant to Section 3(a) of the Natural Gas Act (NGA) and Parts 153 and 380 of the Commission's regulations, seeking authorization to site, construct and operate a bi-directional LNG terminal and associated facilities in the town of Warrenton in Clatstop County, Oregon, as both a place of exit for the exportation of LNG and as a place of entry for the importation of LNG.

Also take notice that on June 7, 2013, Oregon Pipeline Company, LLC, (Oregon Pipeline Company), 8100 NE Parkway Drive, Suite 165, Vancouver, WA 98662, filed in Docket No. CP9-7-001 an application to amend its application filed on October 10, 2008 in Docket No. CP09-7-000 pursuant to Section 7(c) of the NGA and Parts 157 and 284 of the Commission's regulations, to modify the proposed pipeline route and certain facilities, as well as to enable bi-directional flow of gas on the pipeline. As modified, the proposed pipeline would be routed through Clatsop, Columbia, and Tillamook Counties in Oregon, and Cowlitz County in Washington, and end at a new interconnect with the system of Northwest Pipeline GP (Northwest) near Woodland, Washington.

Specifically, the proposed project will entail the construction, operation and maintenance of the following major facilities: (i) A bidirectional LNG receiving and export facility (including berthing accommodations for a single LNG vessel, unloading facilities, and associated piping and appurtenances); (ii) a liquefaction facility consisting of two liquefaction trains of 4.5 million metric tons per annum each, for an overall nominal liquefaction rate of up to 9.0 MTPA; (iii) vaporization facilities with a base load natural gas send out capacity of 0.5 Bscf/d; (iv) LNG storage facilities (including two LNG storage tanks and associated piping and control equipment) capable of storing a total of 320,000 cubic meters of LNG; (v) associated utilities, infrastructure and support systems; and (vi) an approximately 86.8-mile-long, 36-inch diameter pipeline, which will employ a maximum allowable operating pressure of 1,440 pounds per square inch gauge and deliverability of up to 1.25 Bscf/d, all as more fully set forth in the application which is on file with the Commission and open to public inspection, all as more fully set forth in the application which is on file with the Commission and open to public inspection. Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Any questions regarding these applications should be directed to Peter Hansen, LNG Development Company, LLC, 8100 NE Parkway Drive, Suite 165, Vancouver, WA 98662, (503) 298-4967, peterh@oregonlng.com or Lisa M. Tonery, Fulbright & Jaworski LLP, 666 Fifth Avenue, New York, NY 10103, (212) 318-3009, lisa.tonery@noronrosefulbright.com.

On July 16, 2012, the Commission staff granted LNG Development Company, LLC and Oregon Pipeline Company (collectively referred as Oregon LNG) request to utilize the Pre-Filing Process and assigned Docket No. PF12-18 to staff activities involved with Oregon LNG's Bidirectional Project. Now, as of the filing of the application on June 7, 2013, the Pre-Filing Process for this project has ended. From this time forward, this proceeding will be conducted in Docket Nos. CP09-6-001 and CP09-7-001, as noted in the caption of this Notice.

Because the environmental review of Oregon LNG's Bidirectional Project must also include Northwest's connecting supply pipeline to the LNG terminal, the Commission cannot begin preparation of the Environmental Impact Statement (EIS) to comply with the National Environmental Policy Act of 1969, until Pacific Connector's application is filed. Within 90 days after the Commission issues a Notice of Application for the Northwest application, the Commission staff will issue a Notice of Schedule for Environmental Review that will indicate the anticipated date for the Commission's staff issuance of the final EIS analyzing both proposals. The issuance of a Notice of Schedule for Environmental Review will also serve to notify federal and state agencies of the timing for the completion of all necessary reviews, and the subsequent need to complete all federal authorizations within 90 days of the date of issuance of the Commission staff's final EIS.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the “e-Filing” link. Persons unable to file electronically should submit an original and 5 copies of the protest or intervention to the Federal Energy regulatory Commission, 888 First Street NE., Washington, DC 20426.

Comment Date: 5:00 p.m. Eastern Time on July 11, 2013.

Dated: June 20, 2013.
Kimberly D. Bose,
Secretary.

[FR Doc. 2013-15404 Filed 6-26-13; 8:45 am]

BILLING CODE 6717-01-P